OFFICE OF PERSONNEL MANAGEMENT

Submission for Review: Federal Employees' Group Life Insurance (FEGLI) Implementation Questionnaire for Tribal Employers

AGENCY: U.S. Office of Personnel Management.

ACTION: 60-Day Notice and request for comments.

SUMMARY: The Office of Planning and Policy Analysis, Office of Personnel Management (OPM) offers the general public and other Federal agencies the opportunity to comment on a new information collection request (ICR) 3206-NEW, FEGLI Implementation Questionnaire for Tribal Employers. As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until July 12, 2013. This process is conducted in accordance with 5 CFR 1320.1.

ADDRESSES: Interested persons are invited to submit written comments on the proposed information collection to the Office of Planning and Policy Analysis, Office of Personnel Management, 1900 E Street NW., Washington, DC 20415, Attention: Cristin Kane or sent via email to cristin.kane@opm.gov.

FOR FURTHER INFORMATION CONTACT: A copy of this ICR, with applicable supporting documentation, may be obtained by contacting the Office of Planning and Policy Analysis, Office of Personnel Management, 1900 E Street NW., Washington, DC 20415, Attention: Cristin Kane or sent via email to cristin.kane@opm.gov.

SUPPLEMENTARY INFORMATION: As part of the Affordable Care Act, section 409 of the Indian Health Care Improvement Act (IHCIA) authorizes Tribes and Tribal organizations carrying out programs under the Indian Self Determination and Educational Assistance Act or urban Indian organizations carrying out programs under Title V of IHCIA to purchase coverage, rights, and benefits under Federal Employees Health Benefits (FEHB) and FEGLI for their employees. At this time, OPM wishes to issue the FEGLI Implementation questionnaire in order to effectively facilitate FEGLI coverage for Tribes and urban Indian organizations.

Analysis

Agency: Planning and Policy Analysis, Office of Personnel Management.

Title: FEGLI Implementation Questionnaire for Tribal Employers.

OMB Number: ____.

Frequency: One time.

Affected Public: Tribes and urban Indian Organizations.

Number of Respondents: Approximately 700.

Estimated Time per Respondent: 5 minutes.

Total Burden Hours: Approximately 58.

U.S. Office of Personnel Management.
Elaine Kaplan,
Acting Director.

[FR Doc. 2013-11300 Filed 5-10-13; 8:45 am]

BILLING CODE 6325-63-P